DEPARTMENT OF TRANSPORTATION

Maritime Administration

[Docket Number MARAD-2019-0043]

Notice of Availability of Supplemental Environmental Assessment for Decommissioning of the Defueled Nuclear Power Plant Onboard the NS SAVANNAH

AGENCY: Maritime Administration, DOT.

ACTION: Notice of availability.

SUMMARY: The U.S. Department of Transportation (DOT), has made available for review to interested parties the Supplemental Environmental Assessment (EA) for the decommissioning of the deactivated and inoperable nuclear power plant onboard the NS SAVANNAH (NSS), currently moored in Baltimore, Maryland. The Supplemental EA analyzes three Proposed Action Alternative locations: Baltimore, MD, the Preferred Alternative; Hampton Roads, VA; Philadelphia, PA; and the No-Action Alternative. The analysis focuses on the following environmental resources: Water resources, biological resources, air quality, waste management, and health and safety. The Supplemental EA demonstrates that implementing the Proposed Action would result in no significant impacts to the human or natural environment and the preparation of an Environmental Impact Statement is not warranted.

ADDRESSES: A copy of the Supplemental EA is available for public review online at the Regulations.gov website: http://www.regulations.gov. Once at regulations.gov, perform a search using MARAD docket number “MARAD-2019-0043” to locate the Supplemental EA. For in-person access to the docket, go to Room W12-401 of the Department of Transportation, 1200 New Jersey Avenue SE, Washington, DC, between 9 a.m. and 5 p.m., Monday through Friday, except Federal Holidays, and ask for the MARAD docket number identified above. If you have questions on viewing the Docket, call Docket Operations, telephone: 202-366-9317 or 202-366-9826.

FOR FURTHER INFORMATION CONTACT: Ms. Kris Gilson, REM, CHMM, MARAD Office of Environment, at telephone number: 202-366-1939 or by email at kristine.gilson@dot.gov. Persons who use a telecommunications device for the deaf (TDD) may call the Federal Information Relay Service (FIRS) at 1-800-877-8339 to contact the above individual during business hours. The FIRS is available twenty-four hours a day, seven days a week, to leave a message or question with the above individual. You will receive a reply during normal business hours.

SUPPLEMENTARY INFORMATION: Under the standards promulgated in Title 10 of the Code of Federal Regulations, Part 50, the NSS is licensed and regulated by the U.S. Regulatory Commission (NRC). The NSS operated from 1962 to 1970, after which it was removed from service. In 1971, the vessel's nuclear reactor was de-fueled and made permanently inoperable in 1975-76. The NSS is still licensed by the NRC and will remain so until the nuclear facilities are dismantled, removed from the ship, and properly disposed—a regulated process collectively known as decommissioning.

On September 11, 2006, MARAD published a notice in the Federal Register (71 FR 53490) entitled, “Availability of a Draft Environmental Assessment.” This notice announced that a draft EA for decommissioning of the nuclear power plant onboard the NSS had been prepared and made available to the public for comment in accordance with NEPA, 42 U.S.C. 4371 et seq., the CEQ regulations for implementing NEPA, 40 CFR parts 1500-1508, DOT Order 5610.1C, and MARAD MAO 600-1. The notice informed the public on how to obtain, and submit comments on, the draft EA. The draft EA analyzed the impacts associated with the full nuclear decommissioning of the vessel. The draft EA was made available for a 30-day public comment period, beginning on the date of the publication of the notice. The comment period ended on October 11, 2006. MARAD received comments. A Final EA was issued in March 2008. Based on the Final EA, MARAD determined that the environmental effects of the decommissioning of the NSS would not significantly affect the quality of the human or natural environment and therefore would not warrant the preparation of an Environmental Impact Statement. A Finding of No Significant Impact was issued on May 6, 2008. The environmental effects of the specific location and method of decommissioning were to be analyzed in a separate environmental review document. The Supplemental EA is that separate environmental review document and it analyzes those effects and supports a finding that the Proposed Action would result in no significant impacts to the human or natural environment.

Under the provision of the Consolidated Appropriations Acts for 2017 and 2018, funding was appropriated to MARAD to begin nuclear decommissioning of the NSS. The purpose of the Proposed Action is to reduce residual radioactivity to levels that allow termination of the NRC license. The Proposed Action is needed to reduce costs associated with maintaining the NSS and to meet the MARAD mission objective to decommission its nuclear reactor and terminate its NRC license.

The Proposed Action would be to award a decommissioning contract to a domestic company that is technically capable of segregating Low Level Radioactive Waste (LLRW) and decommissioning to support license termination in accordance with applicable Federal, State, and local environmental and safety and health laws and regulations. Construction of new facilities and dredging would not be required because all three locations have existing infrastructure and deep water to accommodate NSS and support decommissioning. The towing would meet requirements for safety, navigation, environmental, and other safeguards.

If MARAD is unable to award a contract, the No-Action alternative would result by default. The No-Action Alternative includes continuous berthing of NSS at Baltimore and MARAD's continued environmental liabilities and costs associated with continuing to maintain the vessel in a protective storage condition. The No-Action Alternative does not meet MARAD's mission objectives and may result in future significant unplanned and unbudgeted expense.

Authority: 42 U.S.C. 4321, et seq., 40 CFR parts 1500-1508, Department of Transportation Order 5610.1C, and MARAD Administrative Order 600-1.

* * * * *

Dated: March 18, 2019.
By Order of the Maritime Administrator.
T. Mitchell Hudson, Jr.,
Secretary, Maritime Administration.

[FR Doc. 2019-05387 Filed 3-20-19; 8:45 am]

BILLING CODE 4910-81-P